DEPARTMENT OF ENERGY

Federal Energy Regulatory Commission

[Project No. 2662-034]

FirstLight Hydro Generating Company, FirstLight CT Hydro LLC; Notice of Comment Period Extension

On January 3, 2019, the Commission issued a notice setting February 2, 2019, as the end of the formal period to file comments, motions to intervene, and protests on the transfer of license application for the Scotland Hydroelectric Project No. 2662. Due to the funding lapse at certain federal agencies between December 22, 2018 and January 25, 2019, the Commission is extending the comment period until February 25, 2019.

Dated: February 11, 2019.
Kimberly D. Bose,
Secretary.

[FR Doc. 2019-02715 Filed 2-19-19; 8:45 am]

BILLING CODE 6717-01-P